Title 3—

The President

Memorandum of April 19, 2000

Report to the Congress Regarding Conditions in Burma and U.S. Policy Toward Burma

Memorandum for the Secretary of State

Pursuant to the requirements set forth under the heading “Policy Toward Burma” in section 570(d) of the FY 1997 Foreign Operations Appropriations Act, as contained in the Omnibus Consolidated Appropriations Act (Public Law 104-208), a report is required every 6 months following enactment concerning:

1) progress toward democratization in Burma;

2) progress on improving the quality of life of the Burmese people, including progress on market reforms, living standards, labor standards, use of forced labor in the tourism industry, and environmental quality; and

3) progress made in developing a comprehensive, multilateral strategy to bring democracy to and improve human rights practices and the quality of life in Burma, including the development of a dialogue between the State Peace and Development Council (SPDC) and democratic opposition groups in Burma.

You are hereby authorized and directed to transmit the report fulfilling these requirements to the appropriate committees of the Congress and to arrange for publication of this memorandum in the Federal Register.

wj

THE WHITE HOUSE,

Washington, April 19, 2000.

[FR Doc. 00-10707

Filed 4-26-00; 8:45 am]

Billing code 4710-10-M